ENVIRONMENTAL PROTECTION AGENCY

40 CFR Part 52

[VA203-5204; FRL-9957-86-Region 3]

Air Plan Approval; Virginia; Update to Materials Incorporated by Reference

AGENCY: Environmental Protection Agency (EPA).

ACTION: Final rule; administrative change.

SUMMARY: The Environmental Protection Agency (EPA) is updating the materials that are incorporated by reference (IBR) into the Virginia state implementation plan (SIP). The regulations affected by this update have been previously submitted by the Virginia Department of Environmental Quality (VADEQ) and approved by EPA. This update affects the SIP materials that are available for public inspection at the National Archives and Records Administration (NARA) and the EPA Regional Office.

DATES: This action is effective May 30, 2017, except that amendatory instruction 2.d amending 40 CFR 52.2420(e) is effective June 9, 2017.

ADDRESSES: SIP materials which are incorporated by reference into 40 CFR part 52 are available for inspection at the following locations: Air Protection Division, U.S. Environmental Protection Agency, Region III, 1650 Arch Street, Philadelphia, Pennsylvania 19103; or NARA. For information on the availability of this material at NARA, call 202-741-6030, or go to: http://www.archives.gov/federal_register/code_of_federal_regulations/ibr_locations.html.

FOR FURTHER INFORMATION CONTACT: Sharon McCauley, (215) 814-3376 or by email at mccauley.sharon@epa.gov.

SUPPLEMENTARY INFORMATION:

I. Background

The SIP is a living document which a state revises as necessary to address its unique air pollution problems. Therefore, EPA, from time to time, must take action on SIP revisions containing new and/or revised regulations as being part of the SIP. On May 22, 1997 (62 FR 27968), EPA revised the procedures for incorporating by reference federally-approved SIPs, as a result of consultations between EPA and the Office of the Federal Register (OFR). The description of the revised SIP document, IBR procedures and “Identification of plan” format are discussed in further detail in the May 22, 1997 Federal Register document. On April 21, 2000 (65 FR 21315), EPA published a document in the Federal Register beginning the new IBR procedure for Virginia. On September 8, 2004 (69 FR 54216), November 3, 2005 (70 FR 66769), July 16, 2007 (72 FR 38920), July 13, 2009 (74 FR 33332) as corrected on December 18, 2009 (74 FR 67077), and November 21, 2011 (76 FR 71881), EPA published updates to the IBR material for Virginia.

Since the publication of the last IBR update, EPA has approved the following regulatory changes to the following regulations and sections for Virginia.

A. Added 9VAC5 Regulations and Source Specific Requirements

1. Chapter 30 (Ambient Air Quality Standards), section 5-30-67.

2. Chapter 40 (Existing Stationary Sources), part II (Emission Standards), article 48 (Emission Standards for Mobile Equipment Repair and Refinishing), section 5-40-6975.

3. Chapter 45 (Consumer and Commercial Products) (entire chapter; part I (Special Provisions are added); 7 articles in part II (Emission Standards) are added:

a. Part I—Special Provisions

b. Part II—Article 1—Emission Standards for Portable Fuel Containers and Spouts Manufactured Before August 1, 2010

c. Part II—Article 2—Emission Standards for Portable Fuel Containers and Spouts Manufactured on or After August 1, 2010

d. Part II—Article 3—Emission Standards for Consumer Products Manufactured Before August 1, 2010

e. Part II—Article 4—Emission Standards for Consumer Products Manufactured on or After August 1, 2010

f. Part II—Article 5—Emission Standards for Architectural and Industrial Maintenance Coatings

g. Part II—Article 6—Emission Standards for Adhesives and Sealants

h. Part II—Article 7—Emission Standards for Asphalt Paving Operations

4. Chapter 80 (Permits for Stationary Sources), Article 8 (Permits—Major Stationary Sources and Major Modifications Located in Nonattainment Areas or the Ozone Transport Region)), section 5-80-1915.

5. Chapter 80 (Permits for Stationary Sources), Article 9 (Permits—Major Stationary Sources and Major Modifications Located in Nonattainment Areas or the Ozone Transport Region), section 5-80-2195.

6. Chapter 85 (Permits for Stationary Sources of Pollutants Subject to Regulation), part III (Prevention of Significant Deterioration Permit Actions), section 5-85-55.

7. Chapter 160 (Regulation for General Conformity), part III (Criteria and Procedures for Making Conformity Determinations), sections 5-160-181 through 5-160-185 inclusive.

8. Chapter 170 (Regulations for General Administration), part IX, Conflict of Interest, section 5-170-210.

9. Code of Virginia, section 10-1-1302 (Qualifications of members of Boards).

10. The addition of an operating permit under Source Specific Requirements for GP Big Island, LLC (Registration Number 20232).

11. The addition of an operating permit under Source Specific Requirements for Mead Westvaco Corporation (Registration Number 20328).

12. The addition of an operating permit under Source Specific Requirements for O-N Minerals Facility (Registration Number 80252).

13. The addition of an operating permit under Source Specific Requirements for Mondelez Global LLC, Inc.—Richmond Bakery (Registration Number 50703).

B. Revised 9VAC5 Regulations

1. Chapter 10 (General Definitions), section 5-10-20 (Terms Defined) and section 5-10-30 (Abbreviations).

2. Chapter 20 (General Provisions), part II, sections 5-20-203 (Air Quality Maintenance Areas) and 5-20-204 (Nonattainment Areas).

3. Chapter 30 (Ambient Air Quality Standards), sections 5-30-15, 5-30-30, and 5-30-55.

4. Chapter 40 (Existing Stationary Sources), part II (Emission Standards), article 4, section name changed to General Process Operations.

5. Chapter 40 (Existing Stationary Sources), part II (Emission Standards), article 43 (Municipal Solid Waste Landfills), sections 5-40-5810, 5-40-5820, 5-40-5850, 5-40-5880, and 5-40-5920.

6. Chapter 40 (Existing Stationary Sources), part II (Emission Standards), article 48 (Emission Standards for Mobile Equipment Repair and Refinishing), sections 5-40-6970 and 5-40-7050.

7. Chapter 45 (Consumer and Commercial Products (applicable to the Northern Virginia and Fredericksburg VOC Emissions Control Areas)), part II (Emission Standards), article 1 (Emission Standards for Portable Fuel Containers and Spouts Manufactured Before August 1, 2010), sections 5-45-70 and 5-45-90.

8. Chapter 45 (Consumer and Commercial Products (applicable to the Northern Virginia and Fredericksburg VOC Emissions Control Areas)), part II (Emission Standards), article 2 (Emission Standards for Portable Fuel Containers and Spouts Manufactured On or After August 1, 2010), sections 5-45-160, 5-45-170 and 5-45-240.

9. Chapter 45 (Consumer and Commercial Products (applicable to the Northern Virginia and Fredericksburg VOC Emissions Control Areas)), part II (Emission Standards), article 3 (Emission Standards for Consumer Products Manufactured Before August 1, 2010), section 5-45-310.

10. Chapter 45 (Consumer and Commercial Products (applicable to the Northern Virginia and Fredericksburg VOC Emissions Control Areas)), part II (Emission Standards), article 4 (Emission Standards for Consumer Products Manufactured On or After August 1, 2010), sections 5-45-400, 5-45-420, 5-45-430 and 5-45-480.

11. Chapter 45 (Consumer and Commercial Products (applicable to the Northern Virginia and Fredericksburg VOC Emissions Control Areas)), part II (Emission Standards), article 5 (Emission Standards for Architectural and Industrial Maintenance Coatings), sections 5-45-520, 5-45-530 and 5-45-580.

12. Chapter 45 (Consumer and Commercial Products (applicable to the Northern Virginia and Fredericksburg VOC Emissions Control Areas)), part II (Emission Standards), article 6 (Emission Standards for Adhesives and Sealants), sections 5-45-620, 5-45-630, 5-45-650 and 5-45-700.

13. In Chapter 80:

a. Article 8 (Permits-Major Stationary Sources and Major Modifications Located in Prevention of Significant Deterioration Areas), sections 5-80-1615, 5-80-1625, 5-80-1635, 5-80-1695, 5-80-1715, 5-80-1765, and 5-80-1925 through 5-80-1965 inclusive.

b. Article 9, sections 5-80-2010, 5-80-2020, 5-80-2120, 5-80-2140, and 5-80-2200 through 5-80-2240 inclusive.

14. Chapter 85 (Permits for Stationary Sources of Pollutants Subject to Regulation), part III (Prevention of Significant Deterioration Permit Actions), section 5-85-50.

15. Chapter 130 (Regulations for Open Burning), part I (General Provisions), sections 5-130-20 and 5-130-40.

16. Chapter 140 (Regulations for Emissions Trading Programs), part I (NOx Budget Trading Program), article 10 (State Trading Program Budget and Compliance Pool), sections 5-140-900, 5-140-920, and 5-140-930.

17. Chapter 151 (Transportation Conformity), part III (Criteria and Procedures for Making Conformity Determinations), sections 5-151-40 and 5-151-70.

18. In Chapter 160:

a. Part I (General Definitions), section 5-160-20.

b. Part II (General Provisions), section 5-160-30.

c. Part III, sections 5-160-110 through 5-160-180 inclusive.

19. Chapter 170 (Regulation for General Administration), part 1 (Definitions), section 5-170-20.

C. Removed 9 VAC5 Regulations and Source-Specific Requirements

1. The following articles in 9VAC5 Chapter 40 (Existing Stationary Sources), part II (Emission Standards) are removed:

a. Article 39 (Emission Standards for Asphalt Paving Operations)

b. Article 42 (Emissions Standards for Portable Fuel Container Spillage)

c. Article 49 (Emission Standards for Architectural and Maintenance Coatings)

d. Article 50 (Emission Standards for Consumer Products)

2. Chapter 91 (Regulations for the Control of Motor Vehicle Emissions in the Northern Virginia Area), part II (General Provisions), sections 5-91-40, 5-91-60, 5-91-80, and 5-91-110.

3. Chapter 160 (Regulation for General Conformity), part III (Criteria and Procedures for Making Conformity Determinations), section 5-160-200.

4. Chapter 200 (National Low Emission Vehicle Program), in its entirety.

5. The operating permit for Transcontinental Pipeline Station 175 (Registration No. 40789) in the Source Specific Requirements.

II. EPA Action

In this action, EPA is announcing the update to the IBR material as of July 1, 2016 and revising the text within 40 CFR 52.2420(b).

EPA is revising our 40 CFR part 52 “Identification of Plan” for the Commonwealth of Virginia regarding incorporation by reference, section 52.2420(b). EPA is revising section 52.2420(b)(1) to clarify that all SIP revisions listed in paragraphs (c) and (d), regardless of inclusion in the most recent “update to the SIP compilation,” are fully federally enforceable under sections 110 and 113 of the CAA as of the effective date of the final rulemaking in which EPA approved the SIP revision, consistent with following our “Approval and Promulgations of Air Quality Implementation Plans; Revised Format of 40 CFR part 52 for Materials Being Incorporated by Reference,” effective May 22, 1997 (62 FR 27968). EPA is revising section 52.2420(b)(2) to clarify references to other portions of paragraph (b) with subparagraph (b)(2). EPA is revising section (b)(3) to update address and contact information. In the table for paragraph 40 CFR 52.2420(c), EPA is:

1. Reorganizing the entries for section 5-10-20 (Definitions- Terms Defined).

2. Revising the CFR to include previously approved sections for 5-30-80 (Lead) and 5-160-10 (General).

3. Revising the entries for sections 5-40-7410, 5-130-10, 5-170-210 and 5-220-60.

4. Correcting a typographical error in the title of Article 48, Emission Standards for Mobile Equipment Repair and Refinishing (Rule 4-48).

5. Removing duplicate and/or additional outdated entries for sections 5-80-2020 and 5-85-50.

In the table for paragraph 52.2420(d), EPA is correcting incorrect Federal Register page citations in the “EPA approval date” column for the following entries: Philip Morris, Inc.—Blended Leaf Facility; Philip Morris, Inc.—Park 500 Facility; Philip Morris, Inc.—Richmond Manufacturing Center; Virginia Electric and Power Co.—Innsbrook Technical Center Hercules, Inc.—Aqualon Division; City of Hopewell—Regional Wastewater Treatment Facility; Allied Signal, Inc.—Hopewell Plant; Allied Signal, Inc.—Chesterfield Plant; Bear Island Paper Co. L.P.; Stone Container Corp.—Hopewell Mill; E.I. Dupont de Nemours and Co.—Spruance Plant; and ICI Americas Inc.—Films Division—Hopewell Site. EPA is also reinserting a previously approved entry for Kraft Foods Global Inc., April 15, 2008 (73 FR 20175) to this paragraph.

EPA is also splitting the existing § 52.2420(e) table (EPA-approved non-regulatory and quasi-regulatory material) into two tables designated as § 52.2420(e)(1) (Non-regulatory material) and § 52.2420(e)(2) (Documents incorporated by reference in regulation 9VAC5-20-21). While there are format changes in the column titles due to this table organization, the substantive text of the existing entries and any additional entries which have been approved since the last VA IBR update do not change.

III. Good Cause Exemption

EPA has determined that this rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). This rule simply codifies provisions which are already in effect as a matter of law in federal and approved state programs. Under section 553 of the APA, an agency may find good cause where procedures are “impractical, unnecessary, or contrary to the public interest.” Public comment is “unnecessary” and “contrary to the public interest” since the codification only reflects existing law. Immediate notice in the CFR benefits the public by removing outdated citations and incorrect table entries.

IV. Incorporation by Reference

In this rule, the EPA is finalizing regulatory text that includes incorporation by reference. In accordance with requirements of 1 CFR 51.5, the EPA is finalizing the incorporation by reference of previously EPA approved regulations promulgated by the Commonwealth of Virginia and federally effective prior to July 1, 2016. Therefore, these materials have been approved by EPA for inclusion in the SIP, have been incorporated by reference by EPA into that plan, are fully federally enforceable under sections 110 and 113 of the CAA as of the effective date of the final rulemaking of EPA's approval, and will be incorporated by reference by the Director of the Federal Register in the next update to the SIP compilation.¹ The EPA has made, and will continue to make, these materials generally available through www.regulations.gov and/or at the EPA Region III Office (please contact the person identified in the FOR FURTHER INFORMATION CONTACT section of this preamble for more information).

¹ 62 FR 27968 (May 22, 1997).

V. Statutory and Executive Order Reviews

A. General Requirements

Under the Clean Air Act (CAA), the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting federal requirements and does not impose additional requirements beyond those imposed by state law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

In addition, the SIP is not approved to apply on any Indian reservation land as defined in 18 U.S.C. 1151 or in any other area where EPA or an Indian tribe has demonstrated that a tribe has jurisdiction. In those areas of Indian country, the rule does not have tribal implications and will not impose substantial direct costs on tribal governments or preempt tribal law as specified by Executive Order 13175 (65 FR 67249, November 9, 2000).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

EPA has also determined that the provisions of section 307(b)(1) of the CAA pertaining to petitions for judicial review are not applicable to this action. Prior EPA rulemaking actions for each individual component of the Virginia SIP compilations had previously afforded interested parties the opportunity to file a petition for judicial review in the United States Court of Appeals for the appropriate circuit within 60 days of such rulemaking action. Thus, EPA sees no need in this action to reopen the 60-day period for filing such petitions for judicial review for this “Identification of plan” update action for Virginia.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: April 1, 2017.
Cecil Rodrigues,
Acting Regional Administrator, Region III.

40 CFR part 52 is amended as follows:

PART 52—APPROVAL AND PROMULGATION OF IMPLEMENTATION PLANS

1. The authority citation for part 52 continues to read as follows:

Authority: 42 U.S.C. 7401 et seq.

Subpart VV—Virginia

2. Section 52.2420 is amended by:

a. Revising paragraph (b).

b. In paragraph (c):

i. Removing the first five entries for section 5-10-20;

ii. Adding in numerical order an entry for section 5-30-80;

iii. Revising the heading for Article 48;

iv. Revising the entry for 5-40-7410;

v. Removing the second entry for section 5-80-2020;

vi. Removing the entry for section 5-85-50 that follows the entry for section 5-85-55.

vii. Revising the entry for 5-130-10;

viii. Adding in numerical order an entry for section 5-160-10;

ix. Revising the entries for 5-170-210 and 5-220-60.

c. In paragraph (d):

i. Revising the entries for Philip Morris, Inc.—Blended Leaf Facility; Philip Morris, Inc.—Park 500 Facility; Philip Morris, Inc.—Richmond Manufacturing Center; Virginia Electric and Power Co.—Innsbrook Technical Center; Hercules, Inc.—Aqualon Division; City of Hopewell—Regional Wastewater Treatment Facility; Allied Signal, Inc.—Hopewell Plant; Allied Signal, Inc.—Chesterfield Plant; Bear Island Paper Co. L.P.; Stone Container Corp.—Hopewell Mill; E.I. Dupont de Nemours and Co.—Spruance Plant; and ICI Americas Inc.—Films Division—Hopewell Site.

ii. Adding an entry for Kraft Foods Global Inc. after the entry for Global Stone Chemstone Corporation.

d. Effective June 9, 2017, revising paragraph (e).

The amendments read as follows:

§ 52.2420 Identification of plan.

* * * * *

(b) Incorporation by reference. (1) Material listed in paragraphs (c) and (d) of this section with an EPA approval date prior to July 1, 2016, were approved for incorporation by reference by the Director of the Federal Register in accordance with 5 U.S.C. 552(a) and 1 CFR part 51. Entries in paragraphs (c) and (d) of this section with the EPA approval dates after July 1, 2016 for the Commonwealth of Virginia, have been approved by EPA for inclusion in the State implementation plan and for incorporation by reference into the plan as it is contained in this section, and will be considered by the Director of the Federal Register for approval in the next update to the SIP compilation.

(2) EPA Region III certifies that the materials provided by EPA at the addresses in paragraph (b)(3) of this section are an exact duplicate of the officially promulgated Commonwealth rules/regulations which have been approved as part of the state implementation plan as of the dates referenced in paragraph (b)(1).

(3) Copies of the materials incorporated by reference into the state implementation plan may be inspected at the Environmental Protection Agency, Region III, 1650 Arch Street, Philadelphia, Pennsylvania 19103. To obtain the material, please call the Regional Office at (215) 814-3376. You may also inspect the material with an EPA approval date prior to July 1, 2016 for the Commonwealth of Virginia at the National Archives and Records Administration (NARA). For information on the availability of this material at NARA, go to: http://www.archives.gov/federal-register/cfr/ibr-locations.html.

(c) * * *

EPA-Approved Virginia Regulations and Statutes
State citation | Title/subject | State effective date | EPA approval date | Explanation (former SIP citation)
* * * * * * *
9VAC5 Chapter 30—Ambient Air Quality Standards [Part III]
* * * * * * *
5-30-80 | Lead | 6/24/09 | 4/25/11, 76 FR 22814 | Revised section.
9VAC5 Chapter 40—Existing Stationary Sources [Part IV]
* * * * * * *
Part II—Emission Standards
* * * * * * *
Article 48—Emission Standards for Mobile Equipment Repairs and Refinishing (Rule 4-48)
* * * * * * *
Article 51—Stationary Sources Subject to Case-by-Case Control Technology Determinations (Rule 4-51)
* * * * * * *
5-40-7410 | Standard for nitrogen oxides (1-hour ozone standard) | 12/15/06 | 1/19/11, 76 FR 3023 | Added Regulation.
* * * * * * *
9VAC5 Chapter 130—Regulations for Open Burning [Formerly 9VAC5 Chapter 40, Part II, Article 40]
Part I—General Provisions
5-130-10 | Applicability | 3/18/09 | 3/14/11, 76 FR 13511 | Formerly 5-40-5600. Provisions of this Chapter expanded to new localities in the emissions control areas.
* * * * * * *
9VAC5 Chapter 160, Part I—General Definitions—General Conformity
* * * * * * *
5-160-10 | General | 1/1/98 | 1/7/03, 68 FR 663. |
* * * * * * *
9VAC5 Chapter 170, Part IX—Conflict of Interest—Regulation for General Administration
* * * * * * *
5-170-210 | General | 11/19/14 | 4/25/15, 80 FR 17695 | Docket #2015-0040. Does not include subsection B.
* * * * * * *
9VAC5 Chapter 220—Opacity Variance for Rocket Testing Operations Atlantic Research Corporation's Orange County Facility
* * * * * * *
5-220-60 | Applicability of future regulation amendments | 12/1/02 | 9/4/09, 74 FR 45766. |
* * * * * * *

(d) * * *

EPA-Approved Source Specific Requirements
Source name | Permit/order or registration No. | State effective date | EPA approval date | 40 CFR part 52 citation
* * * * * * *
Philip Morris, Inc.—Blended Leaf Facility | 50080 | 2/27/86 | 10/14/97, 62 FR 53242 | 52.2465(c)(120).
Philip Morris, Inc.—Park 500 Facility | 50722 | 3/26/97 | 10/14/97, 62 FR 53242 | 52.2465(c)(120).
Philip Morris, Inc.—Richmond Manufacturing Center | 50076 | 7/13/96 | 10/14/97, 62 FR 53242 | 52.2465(c)(120).
Virginia Electric and Power Co.—Innsbrook Technical Center | 50396 | 5/30/96 | 10/14/97, 62 FR 53242 | 52.2465(c)(120).
Hercules, Inc.—Aqualon Division | V-0163-96 | 7/12/96 | 10/14/97, 62 FR 53242 | 52.2465(c)(120).
City of Hopewell—Regional Wastewater Treatment Facility | 50735 | 5/30/96 | 10/14/97, 62 FR 53242 | 52.2465(c)(120).
Allied Signal, Inc.—Hopewell Plant | 50232 | 3/26/97 | 10/14/97, 62 FR 53242 | 52.2465(c)(121).
Allied Signal, Inc.—Chesterfield Plant | V-0114-96 | 5/20/96 | 10/14/97, 62 FR 53242 | 52.2465(c)(121).
Bear Island Paper Co. L.P | V-0135-96 | 7/12/96 | 10/14/97, 62 FR 53242 | 52.2465(c)(121).
Stone Container Corp.—Hopewell Mill | 50370 | 5/30/96 | 10/14/97, 62 FR 53242 | 52.2465(c)(121).
E.I. Dupont de Nemours and Co.—Spruance Plant | V-0117-96 | 5/30/96 | 10/14/97, 62 FR 53242 | 52.2465(c)(121).
ICI Americas Inc.—Films Division—Hopewell Site | 50418 | 5/30/96 | 10/14/97, 62 FR 53242 | 52.2465(c)(121).
* * * * * * *
Kraft Foods Global, Inc.—Richmond Bakery | Registration No. 50703 | 9/19/07 | 4/15/08, 73 FR 20175 | 52.2420(d)(8).
* * * * * * *

(e) EPA-approved non-regulatory and quasi-regulatory material.

(1) Non-regulatory material.

Name of non-regulatory SIP revision | Applicable geographic area | State submittal date | EPA approval date | Additional explanation
Commitment Letter-Clean fuel fleet or alternative substitute program | Northern Virginia Ozone nonattainment Area | 1/25/93 | 9/23/93, 58 FR 50846 | 52.2423(j).
Motor vehicle emissions budgets | Hampton Roads Ozone Maintenance Area | 8/29/96 | 6/26/97, 62 FR 34408 | 52.2424(a).
Motor vehicle emissions budgets | Richmond Ozone Maintenance Area | 7/30/96 | 11/17/97, 62 FR 61237 | 52.2424(b).
1990 Base Year Emissions Inventory-Carbon Monoxide (CO) | Metropolitan Washington Area | 11/1/93, 4/3/95, 10/12/95 | 1/30/96, 61 FR 2931 | 52.2425(a).
1990 Base Year Emissions Inventory-Carbon Monoxide (CO), oxides of nitrogen (NOX), & volatile organic compounds (VOC) | Richmond-Petersburg, Norfolk-Virginia Beach, and Smyth County Ozone Areas | 11/11/92, 11/18/92, 11/1/93, 12/15/94 | 9/16/96, 61 FR 48657 | 52.2425(b).
1990 Base Year Emissions Inventory-Carbon Monoxide (CO), oxides of nitrogen (NOX), & volatile organic compounds (VOC) | Northern Virginia (Metropolitan Washington) Ozone Nonattainment Area | 11/30/92, 11/1/93, 4/3/95 | 9/16/96, 61 FR 54656 | 52.2425(c).
1990 Base Year Emissions Inventory-oxides of nitrogen (NOX), & volatile organic compounds (VOC) | Northern Virginia (Metropolitan Washington) Ozone Nonattainment Area | 12/17/97 | 7/8/98, 63 FR 36854. |
Photochemical Assessment Monitoring Stations (PAMS) Program | Northern Virginia (Metropolitan Washington) Ozone Nonattainment Area | 11/15/94 | 9/11/95, 60 FR 47081 | 52.2426.
Attainment determination of the ozone NAAQS | Richmond Ozone Nonattainment Area | 7/26/96 | 10/6/97, 62 FR 52029 | 52.2428(a).
15% rate of progress plan | Northern Virginia (Metropolitan Washington) Ozone Nonattainment Area | 4/14/98 | 10/6/00, 65 FR 59727 | 52.2428(b).
Small business stationary source technical and environmental assistance program | Statewide | 11/10/92 | 2/14/94, 59 FR 5327 | 52.2460.
Establishment of Air Quality Monitoring Network | Statewide | 3/24/80 | 12/5/80, 45 FR 86530 | 52.2465(c)(38).
Lead (Pb) SIP | Statewide | 12/31/80 | 3/21/82, 45 FR 8566 | 52.2465(c)(61).
Carbon Monoxide Maintenance Plan | Arlington County & Alexandria City | 3/22/04 | 4/4/05, 70 FR 16958 | Revised Carbon Monoxide Maintenance Plan Base Year Emissions Inventory using MOBILE6.
Ozone Maintenance Plan, emissions inventory & contingency measures | Hampton Roads Area | 8/27/96 | 6/26/97, 62 FR 34408 | 52.2465(c)(117).
Ozone Maintenance Plan, emissions inventory & contingency measures | Richmond Area | 7/26/96 | 11/17/97, 62 FR 61237 | 52.2465(c)(119).
Non-Regulatory Voluntary Emission Reduction Program | Washington, DC severe 1-hour ozone nonattainment area | 2/25/04 | 5/12/05, 70 FR 24987 | The nonregulatory measures found in section 7.6 and Appendix J of the plan.
1996-1999 Rate-of-Progress Plan SIP and the Transportation Control Measures (TCMs) in Appendix H | Washington 1-hour ozone nonattainment area | 12/29/03, 5/25/99 | 5/16/05, 70 FR 25688 | Only the TCMs in Appendix H of the 5/25/1999 revision, 1999 motor vehicle emissions budgets of 128.5 tons per day (tpy) of VOC and 196.4 tpy of NOX.
1990 Base Year Inventory Revisions | Washington 1-hour ozone nonattainment area | 8/19/03, 2/25/04 | 5/16/05, 70 FR 25688. |
1999-2005 Rate-of-Progress Plan SIP Revision and the Transportation Control Measures (TCMs) in Appendix J | Washington 1-hour ozone nonattainment area | 8/19/03, 2/25/04 | 5/16/05, 70 FR 25688 | Only the TCMs in Appendix J of the 2/25/2004 revision, 2002 motor vehicle emissions budgets (MVEBs) of 125.2 tons per day (tpy) for VOC and 290.3 tpy of NOX, and, 2005 MVEBs of 97.4 tpy for VOC and 234.7 tpy of NOX.
VMT Offset SIP Revision | Washington 1-hour ozone nonattainment area | 8/19/03, 2/25/04 | 5/16/05, 70 FR 25688. |
Contingency Measure Plan | Washington 1-hour ozone nonattainment area | 8/19/03, 2/25/04 | 5/16/05, 70 FR 25688. |
1-hour Ozone Modeled Demonstration of Attainment and Attainment Plan | Washington 1-hour ozone nonattainment area | 8/19/03, 2/25/04 | 5/16/05, 70 FR 25688 | 2005 motor vehicle emissions budgets of 97.4 tons per day (tpy) for VOC and 234.7 tpy of NOX.
|  | 3/18/14 | 5/26/15, 80 FR 29963 | Removal of Stage II vapor recovery program. See section 52.2428.
Attainment Demonstration and Early Action Plan for the Roanoke MSA Ozone Early Action Compact Area | Botetourt County, Roanoke City, Roanoke County, and Salem City | 12/21/04, 2/15/05 | 8/17/05, 70 FR 43277. |
Attainment Demonstration and Early Action Plan for the Northern Shenandoah Valley Ozone Early Action Compact Area | City of Winchester and Frederick County | 12/20/04, 2/15/05 | 8/17/05, 70 FR 43280. |
8-Hour Ozone Maintenance Plan for the Fredericksburg VA Area | City of Fredericksburg, Spotsylvania County, and Stafford County | 5/4/05 | 12/23/05, 70 FR 76165. |
|  | 3/18/14 | 5/26/15, 80 FR 29963 | Revised 2009 and 2015 motor vehicle emission budgets for NOX.
8-Hour Ozone Maintenance Plan for the Madison & Page Cos. (Shenandoah NP), VA Area | Madison County (part) and Page County (part) | 9/23/05 | 1/3/05, 71 FR 24. |
8-Hour Ozone Maintenance Plan and 2002 Base Year Emissions Inventory | Norfolk-Virginia Beach-Newport News (Hampton Roads), VA Area | 10/12/06, 10/16/06, 10/18/06, 11/20/06, 2/13/07 | 6/1/07, 72 FR 30490 | The SIP effective date is 6/1/07.
8-Hour Ozone Maintenance Plan and 2002 Base Year Emissions Inventory | Richmond-Petersburg VA Area | 9/18/06, 9/20/06, 9/25/06, 11/17/06, 2/13/07 | 6/1/07, 72 FR 30485 | The SIP effective date is 6/18/07.
Ozone Maintenance Plan | White Top Mountain, Smyth County, VA 1-hour Ozone Nonattainment Area | 8/6/07 | 4/29/08, 73 FR 23103. |
RACT under the 8-Hour NAAQS | Stafford County | 4/21/08 | 12/22/08, 73 FR 78192. |
RACT under the 8-Hour NAAQS | Virginia portion of the DC-MD-VA area | 10/23/06 | 6/16/09, 74 FR 28444. |
Reasonable Further Progress Plan (RFP), Reasonably Available Control Measures, and Contingency Measures | Washington DC-MD-VA 1997 8-hour ozone moderate nonattainment area | 6/12/07 | 9/20/11, 76 FR 58206. |
2002 Base Year Inventory for VOC, NOX, and CO | Washington DC-MD-VA 1997 8-hour ozone moderate nonattainment area | 6/12/07 | 9/20/11, 76 FR 58206. |
2008 RFP Transportation Conformity Budgets | Washington DC-MD-VA 1997 8-hour ozone moderate nonattainment area | 6/12/07 | 9/20/11, 76 FR 58206. |
Section 110(a)(2) Infrastructure Requirements for the 1997 Ozone NAAQS Statewide | Statewide | 7/10/08, 9/2/08, 6/8/10, 6/9/10 | 10/11/11, 76 FR 62635 | This action addresses the following CAA elements or portions thereof: 110(a)(2)(A), (B), (C), (D)(ii), (E), (F), (G), (H), (J), (K), (L), and (M).
|  | 11/13/07, 12/13/07, 8/25/11 | 2/25/14, 79 FR 10377 | This action addresses the PSD related elements of the following CAA requirements: 110(a)(2)(D)(i)(II).
Section 110(a)(2) Infrastructure Requirements for the 1997 PM2.5 NAAQS | Statewide | 7/10/08, 9/2/08, 6/8/10, 6/9/10, 4/1/08 | 10/11/11, 76 FR 62635 | This action addresses the following CAA elements or portions thereof: 110(a)(2)(A), (B), (C), (D)(ii), (E), (F), (G), (H), (J), (K), (L), and (M).
|  | 11/13/07, 7/10/08, 9/2/08, 8/25/11 | 2/25/14, 79 FR 10377 | This action addresses the PSD related elements of the following CAA requirements: 110(a)(2)(C), (D)(i)(II), and (J).
Section 110(a)(2) Infrastructure Requirements for the 2006 PM2.5 NAAQS | Statewide | 8/30/10, 4/1/11 | 10/11/11, 76 FR 62635 | This action addresses the following CAA elements or portions thereof: 110(a)(2)(A), (B), (C), (D)(ii), (E), (F), (G), (H), (J), (K), (L), and (M).
|  | 4/1/11, 8/25/11 | 2/25/14, 79 FR 10377 | This action addresses the PSD related elements of the following CAA requirements: 110(a)(2)(C), (D)(i)(II), and (J).
Section 110(a)(2) Infrastructure Requirements for the 2008 Lead NAAQS | Statewide | 3/9/12 | 9/24/13, 78 FR 58462 | This action addresses the following CAA elements or portions thereof: 110(a)(2)(A), (B), (C) (for enforcement and regulation of minor sources), (D)(i)(I), (D)(i)(II) (for the visibility protection portion), (D)(ii), (E)(i), (E)(iii), (F), (G), (H), (J), (K), (L), and (M).
|  | 3/9/12 | 2/25/14, 79 FR 10377 | This action addresses the PSD related elements of the following CAA requirements: 110(a)(2)(C), (D)(i)(II), and (J).
|  | 12/22/14 | 4/2/15, 80 FR 17695 | Docket #2015-0040. Addresses CAA element 110(a)(2)(E)(ii).
Regional Haze Plan | Statewide | 10/4/10 | 6/13/12, 77 FR 35287 | § 52.2452(d); Limited Approval.
Regional Haze Plan Supplements and BART determinations: | Statewide |  | 6/13/12, 77 FR 35287 | § 52.2452(d); Limited Approval.
1. Georgia Pacific Corporation; |  | 7/17/08. |  |
2a. MeadWestvaco Corporation; |  | 5/6/11. |  |
b. MeadWestvaco Corporation; |  | 3/6/09. |  |
3. O-N Minerals Facility; |  | 1/14/10. |  |
4. Revision to the O-N Minerals Facility permit |  | 11/19/10. |  |
2002 Base Year Emissions Inventory for the 1997 fine particulate matter (PM2.5) standard | Virginia portion of the Washington DC-MD-VA 1997 PM2.5 nonattainment area | 4/4/08 | 10/4/12, 77 FR 60626 | § 52.2425(f).
Section 110(a)(2) Infrastructure Requirements for the 2010 Nitrogen Dioxide NAAQS | Statewide | 5/30/13 | 3/18/14, 79 FR 15012 | Docket #2013-0510. This action addresses the following CAA elements, or portions thereof: 110(a)(2)(A), (B), (C), (D)(i)(II), (D)(ii), (E)(i), (E)(iii), (F), (G), (H), (J), (K), (L), and (M) with the exception of PSD elements.
|  | 5/30/13 | 9/30/14, 79 FR 58686 | Docket #2013-0510. This action addresses the following CAA elements, or portions thereof: 110(a)(2)(C), (D)(i)(II), and (J) with respect to the PSD elements.
|  | 12/22/14 | 4/2/15, 80 FR 17695 | Docket #2015-0040. Addresses CAA element 110(a)(2)(E)(ii).
Section 110(a)(2) Infrastructure Requirements for the 2008 Ozone NAAQS | Statewide | 7/23/12 | 3/27/14, 79 FR 17043 | Docket #2013-0211. This action addresses the following CAA elements, or portions thereof: 110(a)(2)(A), (B), (C), (D)(i)(II), (D)(ii), (E)(i), (E)(iii), (F), (G), (H), (J), (K), (L), and (M) with the exception of PSD elements.
|  | 7/23/12 | 9/30/14, 79 FR 58686 | Docket #2013-0211. This action addresses the following CAA elements, or portions thereof: 110(a)(2)(C), (D)(i)(II), and (J) with respect to the PSD elements.
|  | 12/22/14 | 4/2/15, 80 FR 17695 | Docket #2015-0040. Addresses CAA element 110(a)(2)(E)(ii).
Regional Haze Five-Year Progress Report | Statewide | 11/8/13 | 5/2/14, 79 FR 25019. |
Maintenance plan for the Virginia Portion of the Washington, DC-MD-VA Nonattainment Area for the 1997 Annual PM2.5 National Ambient Air Quality Standard | Statewide | 06/03/13, 07/17/13 | 10/6/14,79 FR 60081 | See § 52.2429(b).
Section 110(a)(2) Infrastructure Requirements for the 2010 Sulfur Dioxide NAAQS | Statewide | 6/18/14 | 3/4/15, 80 FR 11557 | Docket #2014-0522. This action addresses the following CAA elements, or portions thereof: 110(a)(2) (A), (B), (C), (D)(i)(II) (PSD), (D)(ii), (E)(i), (E)(iii), (F), (G), (H), (J) (consultation, notification, and PSD), (K), (L), and (M).
|  | 12/22/14 | 4/2/15, 80 FR 17695 | Docket #2015-0040. Addresses CAA element 110(a)(2)(E)(ii).
Attainment Demonstration Contingency Measure Plan | Washington, DC-MD-VA 1997 8-Hour Ozone Nonattainment Area | June 12, 2007 | 4/10/15, 80 FR 19219 | 2010 motor vehicle emissions budgets of 144.3 tons per day (tpd) NOX.
8-hour Ozone Modeled Demonstration of Attainment and Attainment Plan for the 1997 Ozone National Ambient Air Quality Standards | Washington, DC-MD-VA 1997 8-Hour Ozone Nonattainment Area | 6/12/07 | 4/10/15, 80 FR 19206 | 2009 motor vehicle emissions budgets of 66.5 tons per day (tpd) for VOC and 146.1 tpd of NOX.
|  | 3/18/14 | 5/26/15, 80 FR 29963 | Removal of Stage II vapor recovery program. See section 52.2428.
2011 Base Year Emissions Inventory for the 2008 8-hour ozone standard | Virginia portion of the Washington, DC-MD-VA 2008 ozone nonattainment area | 7/17/14 | 5/13/15, 80 FR 27258 | § 52.2425(g).
Section 110(a)(2) Infrastructure Requirements for the 2012 Particulate Matter NAAQS | Statewide | 7/16/15 | 6/16/16, 81 FR 39210 | Docket #2015-0838. This action addresses the following CAA elements, or portions thereof: 110(a)(2)(A), (B), (C), (D)(i)(II) (PSD), (D)(ii), (E), (F), (G), (H), (J), (K), (L), and (M).

(2) Documents incorporated by reference in regulation 9VAC5-20-21.

Revised paragraph in regulation 5-20-21 | Applicable geographic area | State submittal date | EPA approval date | Additional explanation
9VAC5-60-100 (adopts 40 CFR 63.460 through 63.469 by reference) | Statewide | 10/9/98 | 11/3/99, 64 FR 59648 | 52.2423(q).
9VAC5-20-21, paragraphs E.1 through E.5 and E.7 | Statewide | 4/12/89 | 8/23/95, 60 FR 43714 | 52.2423(m); Originally Appendix M, Sections II.A. through II.E. and II.G.
9VAC5-20-21, paragraphs E.1 and E.2 | Statewide | 2/12/93 | 8/23/95, 60 FR 43714 | 52.2423(n); Originally Appendix M, Sections II.A. and II.B.
9VAC5-20-21, Section E | Statewide | 6/22/99 | 1/7/03, 68 FR 663 | 52.2423(r).
9VAC5-20-21, paragraph E.12 | Statewide | 2/23/04 | 6/8/04, 69 FR 31893 | 52.2423(s).
9VAC5-20-21, Section E | Northern Virginia VOC Emissions Control Area designated in 9VAC5-20-206 | 3/24/04 | 5/12/05, 70 FR 24970 | 9VAC5-20-21, Sections E.1.a.(7)., E.4.a.(12) through a.(17), E.10., E.11., E.13.a.(1), and E.13.a.(2).
9VAC5-20-21, Sections D and E | Statewide | 8/25/05 | 3/3/06, 71 FR 10838 | Sections D., E. (introductory sentence), E.2 (all paragraphs), E.3.b, E.4.a.(1) and (2), E.4.b. , E.5. (all paragraphs), and E.7. (all paragraphs) State effective date is 2/1/00.
9VAC5-20-21, Section B | Statewide | 10/25/05 | 3/3/06, 71 FR 10838 | State effective date is 3/9/05; approval is for those provisions of the CFR which implement control programs for air pollutants related to the national ambient air quality standards (NAAQS) and regional haze.
9VAC5-20-21, Section E | Northern Virginia VOC Emissions Control Area designated in 9VAC5-20-206 | 10/25/05 | 1/30/07, 72FR 4207 | 9VAC5-20-21, Sections .1.a.(16)., E.4.a.(18) through a.(20), E.6.a, E.11.a.(3), E.12.a.(5) through a.(8), E.14.a. and E.14.b. State effective date is 3/9/05.
9VAC5-20-21, Paragraphs E.4.a. (21) and (22) | Fredericksburg VOC Emissions Control Area Designated in 9VAC5-20-206 | 5/14/07 | 12/5/07, 72 FR 68511 | State effective date is 10/4/06.
9VAC5-20-21, Sections B. and E.1 | Statewide | 6/24/09 | 1/18/11, 76 FR 2829 | Revised sections.
9VAC5-20-21, Sections E.1.a.(1)(q) and E.1.a.(1)(r) | Statewide | 9/27/10 | 4/25/11, 76 FR 22814 | Revised sections.
9VAC5-20-21, Section E.1.a.(1)(s) | Statewide | 8/18/10 | 6/22/11, 76 FR 36326 | Added Section.
9VAC5-20-21, Sections E.1.a.(2), (16)-(19), E.2.a.(3), E.2.b., E.4.a.(23)-(27), E.11.a.(4)-(6), E.12.a.(3), (5) and (9)-(11) | Northern Virginia and Fredericksburg VOC Emissions Control Areas | 3/17/10 | 1/26/12, 77 FR 3928 | Added section.
9VAC5-20-21 Section E.1.a(1) Documents Incorporated by Reference | Statewide | 5/25/11 | 2/3/12, 77 FR 5400 | Addition of paragraph (1)(a) and (1) (u). The citations of all other paragraphs are revised.
Documents incorporated by reference | Northern Virginia VOC emissions control area | 02/01/16 | 10/21/16, 81 FR 72711 | Section 15 added.

[FR Doc. 2017-10909 Filed 5-26-17; 8:45 am]

BILLING CODE 6560-50-P